DEPARTMENT OF TRANSPORTATION

Office of the Secretary

[DOT Docket No. DOT-OST-2010-0074]

Future of Aviation Advisory Committee (FAAC)

AGENCY: U.S. Department of Transportation, Office of the Secretary of Transportation.

ACTION: The Future of Aviation Advisory Committee (FAAC); Notice of Meeting.

SUMMARY: The Department of Transportation, Office of the Secretary of Transportation, announces the fourth meeting of the FAAC, which will be held in the Los Angeles area. This notice announces the date, time and location of the meeting, which will be open to the public. The purpose of FAAC is to provide advice and recommendations to the Secretary of Transportation to ensure the competitiveness of the U.S. aviation industry and its capability to effectively manage the evolving transportation needs, challenges, and opportunities of the global economy.

DATES: The meeting will be held on October 20, 2010, from 8:30 a.m. to 4:30 p.m.

ADDRESSES: The meeting will be held at the offices of the Federal Aviation Administration's Western-Pacific Region Headquarters Building, 15000 Aviation Boulevard, Lawndale, CA 90261.

FOR FURTHER INFORMATION CONTACT: Pamela Hamilton, Designated Federal Official, Future of Aviation Advisory Committee, 202-267-9677, FAAC@dot.gov.

SUPPLEMENTARY INFORMATION: The advisory committee will also meet on the following date this year:

• December 15

Location: U.S. Department of Transportation Headquarters, West Atrium, 1200 New Jersey Avenue, SE., Washington, DC 20590.

Members of the public may review the FAAC charter and minutes of FAAC meetings at http://www.regulations.gov in docket number DOT-OST-2010-0074 or the FAAC Web site at http://www.dot.gov/faac.

Agenda: A copy of the detailed agenda will be posted at http://www.dot.gov/faac.

Public Access: The meeting is open to the public. (See below for registration instructions.)

Entering the FAA Building:

• A valid form of government issued ID with an expiration date is required.

• Registration is from 7:15 a.m. to 8:30 a.m. Please arrive early for parking, security clearance, and escort to meeting room.

• Only pre-registered attendees may attend the meeting.

• Attendees must be screened and pass through a metal detector.

• No firearms are allowed in the building, including with protection detail.

• Special accessibility requirements should be noted at time of email registration.

• Parking is available in the East parking lot using the Marine Avenue entrance. Parking is limited to a maximum of 125 public registrants and all vehicles will be inspected. Car-pooling or use of public transportation is recommended.

• Public Transportation information: The Marine Station stop on the Metro Green Line is two blocks east of the FAA regional office building. See www.metro.net for Metro Green Line trip planning. Information on city buses is available at www.mta.net.

Public Comments: The public will be provided the opportunity on-site to address comments to the committee during the meeting. Comments to the committee can also be made in writing in advance of the meeting. Comments received by close of business on October 18, 2010, will be used to inform the day's discussions. Written comments should address one or more of the five topics (competition, environment, finance, safety and workforce/labor) that were published in the Federal Advisory Committee Charter at http://www.regulations.gov (Docket DOT-OST-2010-0074). You may file comments identified by the docket number DOT-OST-2010-0074 using any of the following methods:

• Federal eRulemaking Portal: go to http://www.regulations.gov and follow the online instructions for submitting comments.

• Mail: Docket Management Facility, U.S. Department of Transportation, 1200 New Jersey Ave., SE., Room W12-140, Washington, DC 20590-0001.

• Hand Delivery or Courier: West Building Ground Floor, Room W12-140, 1200 New Jersey Ave., SE., between 9 a.m. and 5 p.m. ET, Monday through Friday, except Federal holidays.

• E-mail: In addition, you may send a written copy of your comments and questions to FAAC@dot.gov and include one of the following in the subject line when making your e-mail submission; “Financing,” “Safety,” “Environment,” “Workforce/Labor,” “Competition,” and/or “General comment.”

Registration

• Space is limited. Registration will be available first-come, first-serve. Once the maximum number of 125 registrants has been reached, registration will close. Requests to attend the meeting must be received by close of business on Friday, October 15.

• All foreign nationals must register and provide their date of birth and passport number and country of issue by Friday, October 1.

• Persons with disabilities who require special assistance should advise the Department at FAAC@dot.gov, under the subject line of “Special Assistance” of their anticipated special needs as early as possible.

• To register: Send an e-mail to FAAC@dot.gov with “Registration” in the subject line including the following information:

○ Last name, First name

○ Title (if any)

○ Company or affiliation (if any)

○ Address

○ Phone number

○ US Citizen (Y/N)

○ E-mail address in order for us to confirm your registration

• The Federal Aviation Administration building is a secure Federal facility.

• Lunch will be available for purchase on-site (cash only).

• An e-mail will be sent confirming your registration along with details on security procedures for entering the Federal Aviation Administration building.

• There is no Internet access. Bringing computers into the building requires additional security screening.

Issued on: September 30, 2010.
Ray LaHood,
Secretary of Transportation.

[FR Doc. 2010-25199 Filed 10-1-10; 4:15 pm]

BILLING CODE 4910-9X-P